DEPARTMENT OF COMMERCE

International Trade Administration

[A-851-804]

Seamless Carbon and Alloy Steel Standard, Line, and Pressure Pipe From the Czech Republic: Final Affirmative Determination of Sales at Less Than Fair Value

AGENCY: Enforcement and Compliance, International Trade Administration, Department of Commerce.

SUMMARY: The Department of Commerce (Commerce) determines that seamless carbon and alloy steel standard, line, and pressure pipe (seamless pipe) from the Czech Republic is being, or is likely to be, sold in the United States at less than fair value (LTFV).

DATES: Applicable March 5, 2021.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On December 21, 2020, Commerce published in the Federal Register the Preliminary Determination.¹ We invited interested parties to comment on the Preliminary Determination. We received comments on the Preliminary Determination from Vallourec Star, LP (the petitioner), a domestic producer of seamless pipe.² In its case brief, the petitioner urges Commerce to adopt the findings and results of the Preliminary Determination in this final determination.³

¹ See Seamless Carbon and Alloy Steel Standard, Line, and Pressure Pipe from the Czech Republic: Preliminary Affirmative Determination of Sales at Less Than Fair Value, 85 FR 83059 (December 21, 2020) (Preliminary Determination).

² See Petitioner's Letter, “Seamless Carbon and Alloy Steel Standard, Line, and Pressure Pipe (“SSLPP”) from Czechia: Case Brief,” dated January 20, 2021.

³ Id.

Period of Investigation

The period of investigation is July 1, 2019, through June 30, 2020.

Scope of the Investigation

The products covered by this investigation are seamless pipe and redraw hollows from the Czech Republic, less than or equal to 16 inches in nominal outside diameter, regardless of wall-thickness, manufacturing process, end finish, or surface finish. For a full description of the scope of this investigation, see the “Scope of the Investigation,” in the Appendix to this notice.

Scope Comments

During the course of this investigation, Commerce received comments from interested parties on the scope of the investigation as it appeared in the Initiation Notice.⁴ Commerce issued a Preliminary Scope Decision Memorandum to address these comments.⁵ We did not receive comments from interested parties on the Preliminary Scope Decision Memorandum. As discussed in Preliminary Scope Decision Memorandum, Commerce is modifying the scope language as it appeared in the Initiation Notice to clarify certain exclusions. See the revised scope in the Appendix to this notice.

⁴ See Seamless Carbon and Alloy Steel Standard, Line, and Pressure Pipe from the Czech Republic, the Republic of Korea, the Russian Federation, and Ukraine: Initiation of Less-Than-Fair-Value Investigations, 85 FR 47176 (August 4, 2020) (Initiation Notice).

⁵ See Memorandum, “Antidumping and Countervailing Duty Investigations of Seamless Carbon and Alloy Steel Standard, Line, and Pressure Pipe from the Czech Republic, the Republic of Korea, the Russian Federation, and Ukraine: Preliminary Scope Decision Memorandum,” dated January 13, 2021 (Preliminary Scope Decision Memorandum).

Use of Adverse Facts Available

As discussed in the Preliminary Determination, Commerce assigned to the mandatory respondents in this investigation, Liberty Ostrava A.S. and Moravia Steel A.S., estimated weighted-average dumping margins on the basis of adverse facts available (AFA), pursuant to sections 776(a) and (b) of the Tariff Act of 1930, as amended (the Act).⁶ There is no new information on the record that would cause us to revisit our decision in the Preliminary Determination. Accordingly, for this final determination, we continue to find that the application of AFA pursuant to sections 776(a) and (b) of the Act is warranted with respect to Liberty Ostrava A.S. and Moravia Steel A.S.

⁶ See Preliminary Determination, 85 FR at 83060.

All-Others Rates

As discussed in the Preliminary Determination, Commerce based the all-others rate on the simple average of the dumping margins alleged in the petition, in accordance with section 735(c)(5)(B) of the Act.⁷ We made no changes to the selection of the all-others rate for this final determination.

⁷ Id.

Final Determination

The final estimated weighted-average dumping margins are as follows:

Exporter/producer | Estimated weighted-average dumping margin (percent)
Liberty Ostrava A.S | 51.70
Moravia Steel A.S | 51.70
All Others | 51.07

Disclosure

Normally, Commerce discloses to interested parties the calculations performed in connection with a final determination, in accordance with 19 CFR 351.224(b). However, because Commerce applied AFA to both mandatory respondents in this investigation, there are no calculations to disclose.

Continuation of Suspension of Liquidation

In accordance with section 735(c)(1)(B) of the Act, Commerce will instruct U.S. Customs and Border Protection (CBP) to continue to suspend liquidation of all appropriate entries of seamless pipe from the Czech Republic, as described in the Appendix to this notice, entered, or withdrawn from warehouse, for consumption on or after December 21, 2021, the date of publication of Preliminary Determination in the Federal Register.

Pursuant to section 735(c)(1)(B)(ii) of the Act and 19 CFR 351.210(d), where appropriate, Commerce will instruct CBP to require a cash deposit equal to the estimated weighted-average dumping margin or the estimated all-others rate, as follows: (1) The cash deposit rate for the respondents listed above will be equal to the company-specific estimated weighted-average dumping margin determined in this final determination; (2) if the exporter is not a respondent identified above but the producer is, then the cash deposit rate will be equal to the company-specific estimated weighted-average dumping margin established for that producer of the subject merchandise; and (3) the cash deposit rate for all other producers and exporters will be equal to the all-others estimated weighted-average dumping margin. These suspension-of-liquidation instructions will remain in effect until further notice.

International Trade Commission Notification

In accordance with section 735(d) of the Act, we will notify the International Trade Commission (ITC) of the final affirmative determination of sales at LTFV. Because Commerce's final determination is affirmative, in accordance with section 735(b)(2) of the Act, the ITC will make its final determination as to whether the domestic industry in the United States is materially injured, or threatened with material injury, by reason of imports or sales (or the likelihood of sales) for importation of seamless pipe from the Czech Republic no later than 45 days after this final determination. If the ITC determines that such injury does not exist, this proceeding will be terminated, and all cash deposits posted will be refunded and suspension of liquidation will be lifted. If the ITC determines that such injury does exist, Commerce will issue an AD order directing CBP to assess, upon further instruction by Commerce, antidumping duties on all imports of the subject merchandise entered, or withdrawn from warehouse, for consumption on or after the effective date of the suspension of liquidation, as discussed above in the “Continuation of Suspension of Liquidation” section.

Notification Regarding Administrative Protective Orders

This notice will serve as a final reminder to the parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

Notification to Interested Parties

This determination and notice is issued and published pursuant to sections 735(d) and 777(i)(1) of the Act, and 19 CFR 351.210(c).

Dated: March 1, 2021.
Christian Marsh,
Acting Assistant Secretary for Enforcement and Compliance.

Appendix—Scope of the Investigation

The merchandise covered by the scope of this investigation is seamless carbon and alloy steel (other than stainless steel) pipes and redraw hollows, less than or equal to 16 inches (406.4 mm) in nominal outside diameter, regardless of wall-thickness, manufacturing process (e.g., hot-finished or cold-drawn), end finish (e.g., plain end, beveled end, upset end, threaded, or threaded and coupled), or surface finish (e.g., bare, lacquered or coated). Redraw hollows are any unfinished carbon or alloy steel (other than stainless steel) pipe or “hollow profiles” suitable for cold finishing operations, such as cold drawing, to meet the American Society for Testing and Materials (ASTM) or American Petroleum Institute (API) specifications referenced below, or comparable specifications. Specifically included within the scope are seamless carbon and alloy steel (other than stainless steel) standard, line, and pressure pipes produced to the ASTM A-53, ASTM A-106, ASTM A-333, ASTM A-334, ASTM A-589, ASTM A-795, ASTM A-1024, and the API 51 specifications, or comparable specifications, and meeting the physical parameters described above, regardless of application, with the exception of the exclusions discussed below.

Specifically excluded from the scope of the investigation are: (1) All pipes meeting aerospace, hydraulic, and bearing tubing specifications, including pipe produced to the ASTM A-822 standard; (2) all pipes meeting the chemical requirements of ASTM A-335, whether finished or unfinished; and (3) unattached couplings. Also excluded from the scope of the investigation are (1) all mechanical, boiler, condenser and heat exchange tubing, except when such products conform to the dimensional requirements, i.e., outside diameter and wall thickness, of ASTM A-53, ASTM A-106 or API 51 specifications. Also excluded from the scope of the investigation are: (1) Oil country tubular goods consisting of drill pipe, casing, tubing and coupling stock; (2) all pipes meeting the chemical requirements of ASTM A-335 regardless of their conformity to the dimensional requirements of ASTM A-53, ASTM A-106 or API 5L; and (3) the exclusion for ASTM A335 applies to pipes meeting the comparable specifications GOST 550-75.

Subject seamless standard, line, and pressure pipe are normally entered under Harmonized Tariff Schedule of the United States (HTSUS) subheadings 7304.19.1020, 7304.19.1030, 7304.19.1045, 7304.19.1060, 7304.19.5020, 7304.19.5050, 7304.31.6050, 7304.39.0016, 7304.39.0020, 7304.39.0024, 7304.39.0028, 7304.39.0032, 7304.39.0036, 7304.39.0040, 7304.39.0044, 7304.39.0048, 7304.39.0052, 7304.39.0056, 7304.39.0062, 7304.39.0068, 7304.39.0072, 7304.51.5005, 7304.51.5060, 7304.59.6000, 7304.59.8010, 7304.59.8015, 7304.59.8020, 7304.59.8025, 7304.59.8030, 7304.59.8035, 7304.59.8040, 7304.59.8045, 7304.59.8050, 7304.59.8055, 7304.59.8060, 7304.59.8065, and 7304.59.8070. The HTSUS subheadings and specifications are provided for convenience and customs purposes; the written description of the scope is dispositive.

[FR Doc. 2021-04567 Filed 3-4-21; 8:45 am]

BILLING CODE 3510-DS-P